DEPARTMENT OF JUSTICE

Antitrust Division

Notice Pursuant to the National Cooperative Research and Production Act of 1993—AI Infrastructure Alliance, Inc.

Notice is hereby given that, on December 6, 2024, pursuant to section 6(a) of the National Cooperative Research and Production Act of 1993, 15 U.S.C. 4301 et seq. (“the Act”), AI Infrastructure Alliance, Inc. (“AIIA”) has filed written notifications simultaneously with the Attorney General and the Federal Trade Commission disclosing changes in its membership. The notifications were filed for the purpose of extending the Act's provisions limiting the recovery of antitrust plaintiffs to actual damages under specified circumstances. Specifically, DataTalks.Club, Berlin, GERMANY; Allegro Systems Ltd., Tel Aviv, STATE OF ISRAEL; Pachyderm, Inc., San Francisco, CA; Arize AI, Mill Valley, CA; TerminusDB, Dublin, IRELAND; Data Science Salon, Miami, FL; MLOps Community, Flagstaff, AZ; Molecula, Austin, TX; Activeloop, Mountain View, CA; Superwise AI LTD., Tel Aviv, STATE OF ISRAEL; LGN Innovations Inc., St Asaph, IRELAND; Superb AI, Inc., San Mateo, CA; YData Labs Inc., Seattle, WA; InfuseAI Inc., Taipei City, TAIWAN; Seldon Technologies Limited, London, UNITED KINGDOM; Modzy, Inc., Vienna, VA; TheSequence, Coral Gables, FL; Iguazio, Herzliya, STATE OF ISRAEL; Valohai, Turku, REPUBLIC OF FINLAND; Nvidia, Inc., Santa Clara, CA; Data-Centric AI Community, Seattle, WA; WhyLabs Inc., Seattle, WA; Pasteur Labs & ISI, Brooklyn, NY; Fiddler AI, Palo Alto, CA; Hewlett Packard Enterprise, San Jose, CA; Toloka AI Inc., Wilmington, DE; TruEra, Inc., Redwood City, CA; Bosch AIShield, Koramangala, REPUBLIC OF INDIA; Run:ai, Tel Aviv, STATE OF ISRAEL; Galileo Technologies, San Francisco, CA; Modulos AG, Zurich, SWISS CONFEDERATION; AI Partnerships Corp., Toronto, CANADA; Weights and Biases, Inc., San Francisco, CA; Kognic AB, Gothenburg, KINGDOM OF SWEDEN; Manot, Inc., Glendale, CA; Fennel AI, Menlo Park, CA; Arthur, New York, NY; MakinaRocks, Seoul, REPUBLIC OF KOREA; Colorado College, Colorado Springs, CO; Çukurova University, Industrial Engineering Department, Adana, REPUBLIC OF TÜRKIYE; SEMATIC, San Francisco, CA; and deepset GmbH, Berlin, FEDERAL REPUBLIC OF GERMANY, have withdrawn as parties to this venture.

No other changes have been made in either the membership or planned activity of the group research project.

On January 5, 2022, AIIA filed its original notification pursuant to section 6(a) of the Act. The Department of Justice published a notice in the Federal Register pursuant to section 6(b) of the Act on March 10, 2022 (87 FR 13759).

The last notification was filed with the Department on October 26, 2023. A notice was published in the Federal Register pursuant to section 6(b) of the Act on December 15, 2023 (88 FR 86931).

Suzanne Morris,
Deputy Director Civil Enforcement Operations, Antitrust Division.

[FR Doc. 2025-03206 Filed 2-27-25; 8:45 am]

BILLING CODE P